ENVIRONMENTAL PROTECTION AGENCY

40 CFR Parts 51, 52, 72, 73, 74, 78, 96, and 97

[EPA-HQ-OAR-2004-0076; FRL-8333-1]

RIN 2060-AM99

Rulemaking on Section 126 Petition From North Carolina To Reduce Interstate Transport of Fine Particulate Matter and Ozone; Federal Implementation Plans To Reduce Interstate Transport of Fine Particulate Matter and Ozone: Notice of Actions Denying Petitions for Reconsideration

AGENCY: Environmental Protection Agency (EPA).

ACTION: Notice of Actions Denying Petitions for Reconsideration.

SUMMARY: The EPA is providing notice that it has responded to 4 petitions for reconsideration of a final rule published in the Federal Register on April 28, 2006. The rule promulgated Federal implementation plans (FIPs) for the Clean Air Interstate Rule (CAIR) and responded to a petition from North Carolina that was submitted under section 126 of the Clean Air Act (CAIR FIPs-Section 126 Rule). Subsequent to publishing the rule, EPA received 4 petitions for reconsideration from ARRIPA (dated June 26, 2006), Colver Power Project (dated June 27, 2006), the State of North Carolina (dated June 26, 2006), and Southern Environmental Law Center (on behalf of Southern Environmental Law Center, Sierra Club, and Environment North Carolina) (dated June 27, 2006). The EPA considered the petitions and supporting information along with information contained in the rulemaking docket (Docket No. EPA-OAR-HQ-2004-0076) in reaching a decision on the petitions. EPA Administrator Stephen L. Johnson denied the petitions for reconsideration in separate letters to the petitioners dated February 27, 2007 to ARRIPA and to Colver Power Project and dated May 7, 2007 to Southern Environmental Law Center and to the State of North Carolina. The letters explain EPA's reasons for the denials.

FOR FURTHER INFORMATION CONTACT: Sonja Rodman, U.S. EPA, Office of General Counsel, Mail Coder 2344A, 1200 Pennsylvania Avenue, NW., Washington, DC 20460, telephone (202) 564-4097, e-mail at rodman.sonja@epa.gov.

SUPPLEMENTARY INFORMATION:

I. How Can I Get Copies of This Document and Other Related Information?

This Federal Register notice, the petitions for reconsideration, and the letters denying the petitions for reconsideration are available in the docket that EPA established for the CAIR FIRs-Section 126 Rule under Docket ID No. EPA-HQ-OAR-2004-0076. The document identification numbers for the petitions for reconsideration are: ARRIPA, EPA-HQ-OAR-2004-0076-0284; North Carolina, EPA-HQ-OAR-2004-0076-0293.1 (petition) and EPA-HQ-OAR-2004-0076-0293.2 through EPA-HQ-OAR-2004-0076-0293.21 (supporting materials); and Southern Environmental Law Center, Sierra Club, and Environment North Carolina, EPA-HQ-OAR-2004-0076-0233. The document identification numbers for EPA's response letters are: to ARRIPA, EPA-HQ-OAR-2004-0076-0307; to Colver Power Project, EPA-HQ-OAR-2004-0076-0308; to North Carolina, EPA-HQ-OAR-2004-0076-0305; and to Southern Environmental Law Center, EPA-HQ-OAR-2004-0076-0306.

All documents in the docket are listed on the www.regulations.gov Web site. Although listed in the index, some information is not publicly available, e.g., confidential business information (CBI) or other information whose disclosure is restricted by statute. Certain other material, such as copyrighted material, is not placed on the Internet and will be publicly available only in hard copy form. Publicly available docket materials are available either electronically through www.regulations.gov or in hard copy at the EPA Docket Center (Air Docket), EPA/DC, EPA West, Room 3334, 1301 Constitution Ave., NW., Washington, DC. The Public Reading Room is open from 8:30 a.m. to 4:30 p.m., Monday through Friday, excluding legal holidays. The telephone number for the Public Reading Room is (202) 566-1744 and the telephone number for the Air Docket is (202) 566-1742.

This Federal Register notice, the petitions for reconsideration, and the letters denying the petitions can also be found on EPA's Web site http://www.epa.gov/cair. The CAIR FIPs-Section 126 Rule was published in the Federal Register on April 28, 2006 at 71 FR 25328.

II. Judicial Review

Section 307(b)(1) of the Clean Air Act indicates which Federal Courts of Appeals have venue for petitions for review of final actions by EPA. This section provides, in part, that the petitions for review must be filed in the Court of Appeals for the District of Columbia Circuit if (i) the agency action consists of “nationally applicable regulations promulgated, or final action taken, by the Administrator,” or (ii) such actions are locally or regionally applicable, if “such action is based on a determination of nationwide scope or effect and if in taking such action the Administrator finds and publishes that such action is based on such a determination.”

The EPA has determined that its actions denying the petitions for reconsideration are of nationwide scope and effect for purposes of section 307(d)(1) because the actions directly affect the CAIR FIPs-Section 126 Rule, which previously was found to be of nationwide scope and effect. Thus, any petitions for review of the letters denying the petitions for reconsideration described in this Notice must be filed in the Court of Appeals for the District of Columbia Circuit within 60 days from the date this Notice is published in the Federal Register.

Dated: June 22, 2007.
Stephen D. Page,
Director, Office of Air Quality Planning and Standards.

[FR Doc. 07-3188 Filed 6-27-07; 8:45 am]

BILLING CODE 6560-50-M